DEPARTMENT OF COMMERCE

National Oceanic and Atmospheric Administration

[I.D. 032206C]

Subsistence Harvest Management of Cook Inlet, Alaska Beluga Whales by Alaska Natives

AGENCY: National Marine Fisheries Service (NMFS), National Oceanic and Atmospheric Administration (NOAA), Commerce.

ACTION: Notice of intent to prepare a Supplemental Environmental Impact Statement; request for comments.

SUMMARY: NMFS announces its intent to prepare a Supplemental Environmental Impact Statement (SEIS) pursuant to the National Environmental Policy Act of 1969 (NEPA), for the Subsistence Harvest Management of Cook Inlet, Alaska, Beluga Whales by Alaska Natives.

ADDRESSES: To request inclusion on a mailing list of persons interested in the SEIS, please contact Kaja Brix, Assistant Regional Administrator, Protected Resources Division, NMFS, Alaska Region, Attn: Ellen Walsh. Comments may be submitted by:

• Mail: P.O. Box 21668, Juneau, AK 99802-1668.

• Hand Delivery to the Federal Building: 709 West 9th Street, Room 420A, Juneau, AK

• FAX: 907-586-7557

• Email: CIB-Harvest-SEIS@noaa.gov. Include in the subject line the following document identifier: CI Beluga SEIS (Email comments, with or without attachments, are limited to five (5) megabytes).

FOR FURTHER INFORMATION CONTACT: Barbara Mahoney or Brad Smith, NMFS Alaska Region, Anchorage Field Office, (907) 271-5006.

SUPPLEMENTARY INFORMATION: NMFS is initiating this SEIS process for the Subsistence Harvest Management of Cook Inlet, Alaska, Beluga Whales by Alaska Natives. An SEIS is required when, among other reasons, there are substantial changes in a proposed action or there significant new circumstances or information relevant to the proposed action or its impacts. Additional Cook Inlet beluga information, including the Subsistence Harvest Management of Cook Inlet Beluga Whales, Final Environmental Impact Statement, July 2003, is available at: http://www.fakr.noaa.gov/protectedresources/whales/beluga.htm.

Background

The Cook Inlet beluga whale stock declined dramatically between 1994 and 1998. Aerial survey results indicated that the 1998 abundance estimate of 347 Cook Inlet beluga whales represented a decline of 47 percent from the 653 1994 estimate. In response to this significant decline, NMFS published a final rule to designate the Cook Inlet stock of belugas as depleted under the Marine Mammal Protection Act, 1972, as amended (MMPA) on May 31, 2000 (65 FR 34590).

The MMPA exempts subsistence takes by Alaska Natives from marine mammal take prohibitions. The exemption allows Alaska Natives to use the Cook Inlet beluga as traditional food and Native handicrafts.

Cook Inlet beluga harvests have been severely restricted (0-2 whales annually) since 1999, due to both the voluntary efforts of the Native hunters and federal law requiring co-management agreements to authorize harvests (Public Law No. 106-31 (May 21, 1999, and Public Law No. 106-553 (December 21, 2000)). Since 2000, NMFS has entered into co-management agreements with an Alaska Native organization for the subsistence harvest of Cook Inlet belugas. NMFS has worked cooperatively with beluga hunters to recover the stock, while recognizing traditional values of continuing a harvest.

Following the depletion determination and pursuant to the MMPA, NMFS proposed regulations limiting the harvest of belugas in Cook Inlet (65 FR 59164, October 4, 2000). An Administrative Law Judge (ALJ) convened a hearing on the proposed regulations in December 2000. The ALJ issued a recommended decision to the Assistant Administrator for Fisheries (AA) that allowed a harvest of six whales from 2001 through 2004 (67 FR 30646, May 7, 2002). In July 2003, a Final EIS was released with interim harvest regulations for the period 2001-2004 (69 FR 17973, April 6, 2004). This EIS, which NMFS intends to supplement, analyzed the impacts of various alternatives, including a preferred alternative. The preferred alternative adopted the ALJ's recommended decision calling for harvest of six whales from 2001 through 2004 and for determining harvest for 2005 and beyond after NMFS made further abundance estimates.

Because the interim harvest regulations authorized harvest only through 2004, the ALJ conducted a second hearing in August 2004 to receive evidence on a harvest plan for 2005 until recovery of the Cook Inlet beluga. The ALJ presiding in the August 2004 hearings submitted his recommended decision on the future harvest plan for Cook Inlet belugas to the AA on November 8, 2005. As required by regulations, NMFS published notice of this recommended decision (71 FR 8268, February 16, 2006) and solicited comments for a 20-day period that ended on March 8, 2006.

Alternatives

After preliminary review of recent annual abundance estimates and the November 8, 2005, ALJ's recommended decision, NMFS anticipates four alternative harvest management regimes:

Alternative 1: no action alternative;

Alternative 2: maximizing the recovery of the Cook Inlet beluga stock by minimizing or allowing no harvest until the stock had recovered to optimum sustainable population levels;

Alterative 3: maximizing the short term opportunity for subsistence harvests and prolonging the recovery of the stock; and

Alternative 4: the November 8, 2005, harvest plan recommended by the ALJ, allowing an intermediate level of harvest that would provide some subsistence use and promote recovery of the stock in a longer time frame than alternative (1), but shorter time frame than alternative (2).

Major SEIS issues will include: subsistence removal impacts on this stock; regulated harvest impacts on the traditional and cultural values of Alaska Natives and the social and economic impacts of various population levels of the CI beluga stock of whales.

Public Involvement

Comments on this SEIS process should be directed to NMFS (see ADDRESSES). All comments and material received, including names and addresses, will become part of the administrative record and may be released to the public. NMFS will ask for additional public comments once the draft SEIS is prepared and available.

Please visit NMFS Alaska Region web page at http://www.fakr.noaa.gov for more information on this SEIS. NMFS estimates the draft SEIS will be available in September 2006.

Authority

The preparation of the SEIS for the Subsistence Harvest Management of Cook Inlet, Alaska, Beluga Whales by Alaska Natives will be conducted under the authority and in accordance with the requirements of NEPA, Council on Environmental Quality Regulations (40 CFR 1500-1508), other applicable Federal laws and regulations, and policies and procedures of NMFS for compliance with those regulations.

Dated: March 23, 2006.
Angela Somma,
Acting Director, Office of Protected Resources, National Marine Fisheries Service.

[FR Doc. E6-4604 Filed 3-28-06; 8:45 am]

BILLING CODE 3510-22-S